RAILROAD RETIREMENT BOARD

Correction to Agency Forms Submitted for OMB Review, Request for Comments

SUMMARY: In the document appearing on page 47086, FR Doc. E7-16592, Agency Forms Submitted for OMB Review, Request for Comments dated August 22, 2007, the Railroad Retirement Board is making a correction to the Item titled “Changes Proposed”. As published, the document contains an error that may be misleading to the public.

Correction of Publication: The Item titled “Changes Proposed” which reads “The RRB proposed no changes to Form UI-45”, is corrected to read “The RRB proposes no changes to Form UI-1e”.

Charles Mierzwa,
Clearance Officer.

[FR Doc. E7-17273 Filed 8-30-07; 8:45 am]

BILLING CODE 7905-01-P